DEPARTMENT OF DEFENSE

Office of the Secretary

[Transmittal No. 24-111]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-111, Policy Justification, and Sensitivity of Technology.

Dated: December 10, 2025.
Stephanie J. Bost,
Alternate OSD Federal Register Liaison Officer, Department of Defense.

BILLING CODE 6001-FR-P

BILLING CODE 6001-FR-C

Transmittal No. 24-111

Notice of Proposed Issuance of Letter of Offer Pursuant to Section 36(b)(1) of the Arms Export Control Act, as amended

(i) Prospective Purchaser: Government of Argentina

(ii) Total Estimated Value:

Major Defense Equipment * | $ 94 million
Other | $847 million
TOTAL | $941 million

Funding Source: Foreign Military Financing and National Funds

(iii) Description and Quantity or Quantities of Articles or Services under Consideration for Purchase: The Government of Argentina has requested to buy equipment and services to support twenty-four (24) F-16 Block 10/15 aircraft procured through third-party transfer. These items include:

Major Defense Equipment (MDE):

Thirty-six (36) AIM-120 C-8 Advanced Medium Range Air-to-Air Missiles (AMRAAM)

Two (2) AIM-120 C-8 AMRAAM guidance sections

One hundred two (102) MK-82 500lb general purpose bombs

Fifty (50) MXU-650 air foil groups for 500lb GBU-12 Paveway II laser-guided bombs

One hundred two (102) FMU-152A/B joint programmable fuzes with FZU-63A/B fuze systems

Fifty (50) MAU-169L/B computer control groups

Non-Major Defense Equipment:

The following non-MDE items will also be included: weapons and weapons support equipment; explosive charges, devices, propellants, and components; AN/ARC-238 radios; Joint Mission Planning Systems (JMPS); FMU-169D/B inert fuzes; Ground Support System (GSS) for Link-16; KY-58M and KIV-78 cryptographic devices, AN/PYQ-10 Simple Key Loaders (SKL), communications security (COMSEC) cables, and other COMSEC devices and equipment; cartridges, chaffs, and flares; practical explosive ordinance disposal system trainer; avionics support; communications equipment; precision navigation; Computer Program Identification Numbers (CPINS); electronic warfare database support; major and minor modifications and maintenance support; aircraft components, parts, and accessories; instruments and lab equipment; spare parts, consumables and accessories, and repair and return support; classified and unclassified software delivery and support; classified and unclassified publications and technical documentation; personnel training and training equipment; clothing, textiles, and individual equipment; jet fuel; aircraft ferry, aerial refueling, and transportation support; studies and surveys; United States (U.S.) Government and contractor engineering, technical, and logistics support services; and other related elements of logistics and program support.

(iv) Military Department: Air Force (AR-D-QAZ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 30, 2024

* as defined in Section 47(6) of the Arms Export Control Act

POLICY JUSTIFICATION

Argentina—F-16 Aircraft Equipment and Support

The Government of Argentina has requested to buy equipment and services to support twenty-four (24) F-16 Block 10/15 aircraft procured through third-party transfer. These items include: thirty-six (36) AIM-120 C-8 Advanced Medium Range Air-to-Air Missiles (AMRAAM); two (2) AIM-120 C-8 AMRAAM guidance sections; one hundred two (102) MK-82 500lb general purpose bombs; fifty (50) MXU-650 air foil groups for 500lb GBU-12 Paveway II laser-guided bombs; one hundred two (102) FMU-152A/B joint programmable fuzes with FZU-63A/B fuze systems; and fifty (50) computer control groups MAU-169L/B. The following non-MDE items will also be included: weapons and weapons support equipment; explosive charges, devices, propellants, and components; AN/ARC-238 radios; Joint Mission Planning Systems (JMPS); FMU-169D/B inert fuzes; Ground Support System (GSS) for Link-16; KY-58M and KIV-78 cryptographic devices, AN/PYQ-10 Simple Key Loaders (SKL), communications security (COMSEC) cables, and other COMSEC devices and equipment; cartridges, chaffs, and flares; practical explosive ordinance disposal system trainer; avionics support; communications equipment; precision navigation; Computer Program Identification Numbers (CPINS); electronic warfare database support; major and minor modifications and maintenance support; aircraft components, parts, and accessories; instruments and lab equipment; spare parts, consumables and accessories, and repair and return support; classified and unclassified software delivery and support; classified and unclassified publications and technical documentation; personnel training and training equipment; clothing, textiles, and individual equipment; jet fuel; aircraft ferry, aerial refueling, and transportation support; studies and surveys; U.S. Government and contractor engineering, technical, and logistics support services; and other related elements of logistics and program support. The estimated total cost is $941 million.

This proposed sale will support the foreign policy goals and national security objectives of the U.S. by improving the security of a major non-NATO ally that is a force for political stability and economic progress in South America.

The proposed sale will improve Argentina's capability to meet current and future threats by providing the additional capacity to conduct air defense, offensive counter air, and close air support operations. Argentina will have no difficultly absorbing this equipment into its armed forces.

The proposed sale of this equipment and support will not alter the basic military balance in the region.

The principal contractor will be Lockheed Martin, located in Fort Worth, TX. There are no known offsets proposed in connection with this potential sale. Implementation of this proposed sale will not require the assignment of any additional U.S. Government or contractor representatives to Argentina.

There will be no adverse impact on U.S. defense readiness as a result of this proposed sale.

Transmittal No. 24-111

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept, guided missile featuring digital technology and micro-miniature, solid-state electronics. AMRAAM capabilities include look-down/shoot-down, multiple launches against multiple targets, resistance to electronic countermeasures, and interception of high- and low-flying and maneuvering targets.

2. The Paveway II (PWII) is a maneuverable, free-fall laser-guided bomb (LGB). It is delivered like a normal general purpose (GP) warhead, but the semi-active laser guidance corrects many of the normal errors inherent in any delivery system. Laser designation for the LGB can be provided by a variety of laser target markers or designators. The PWII consists of a non-warhead-specific MAU-209 or MAU-169 computer control group (CCG) and a warhead-specific air foil group (AFG) that attaches to the nose and tail of the GP bomb body.

The GBU-12 is a 500-pound general-purpose (GP) bomb body fitted with the MAU-169 (CCG) and MXU-650 AFG for guidance to its laser designated target.

3. The MK-82 general purpose (GP) bomb is a 500-pound, free-fall, unguided, low-drag weapon. The MK-82 is designed for soft, fragment-sensitive targets and is not intended for hard targets or penetrations. The explosive filling is usually tritonal, though other compositions have sometimes been used.

4. ARC-238 radios are cryptographic voice communications radio systems equipped with Second Generation Anti-jam Tactical Ultra-High-Frequency Radio for NATO (SATURN). Other waveforms may be included as needed.

5. The AN/PYQ-10] Simple Key Loader is a handheld device used for securely receiving, storing, and transferring data between compatible cryptographic and communications equipment.

6. The KY-58M is a cryptographic modernized secure voice module primarily used to encrypt radio communication to and from military aircraft and other tactical vehicles.

7. The KIV-78 is a cryptographic appliqué for IFF. It can be loaded with Mode 5 classified elements.

8. The Joint Mission Planning System (JMPS) is a multi-platform, PC-based mission planning system. Its modular suite of systems is tailored to user needs, allowing operators of various aircraft to install planning modules required for flight planning, weapons delivery planning, post-flight debrief, and operational integration.

9. Link-16 is an advanced command, control, communications, and intelligence (C3I) system incorporating jam-resistant, digital communication links for exchange of near real-time tactical information, including both data and voice, among air, ground, and sea elements. It provides the warfighter key theater functions such as surveillance, identification, air control, and weapons engagement coordination for all services and allied forces.

10. The highest level of classification of defense articles, components, and services included in this potential sale is SECRET.

11. If a technologically advanced adversary were to obtain knowledge of the specific hardware and software elements, the information could be used to develop countermeasures that might reduce weapon system effectiveness or be used in the development of a system with similar or advanced capabilities.

12. A determination has been made that Argentina can provide substantially the same degree of protection for the sensitive technology being released as the U.S. Government. This sale is necessary in furtherance of the U.S. foreign policy and national security objectives outlined in the Policy Justification.

13. All defense articles and services listed in this transmittal have been authorized for release and export to Government of Argentina.

[FR Doc. 2025-22754 Filed 12-12-25; 8:45 am]

BILLING CODE 6001-FR-P